DEPARTMENT OF COMMERCE

International Trade Administration

[C-570-980]

Crystalline Silicon Photovoltaic Cells, Whether or Not Assembled Into Modules, From the People's Republic of China: Final Results of Countervailing Duty Administrative Review; 2021

AGENCY: Enforcement and Compliance, International Trade Administration, Department of Commerce.

SUMMARY: The U.S. Department of Commerce (Commerce) determines that countervailable subsidies are being provided to producers/exporters of crystalline silicon photovoltaic cells, whether or not assembled into modules (solar cells), from the People's Republic of China (China) during the period of review (POR) January 1, 2021, through December 31, 2021.

DATES: Applicable June 18, 2024.

FOR FURTHER INFORMATION CONTACT: Jose Rivera or Peter Shaw, AD/CVD Operations, Office VII, Enforcement and Compliance, International Trade Administration, U.S. Department of Commerce, 1401 Constitution Avenue NW, Washington, DC 20230; telephone: (202) 482-0842 or (202) 482-0697, respectively.

SUPPLEMENTARY INFORMATION:

Background

On December 22, 2024, Commerce published the preliminary results of this administrative review.¹ For a description of the events that occurred since the Preliminary Results, see the Issues and Decision Memorandum.²

¹ See Crystalline Silicon Photovoltaic Cells, Whether or Not Assembled into Modules from the People's Republic of China: Preliminary Results of Countervailing Duty Administrative Review, Rescission, and Rescission, in Part; 2021, 88 FR 88575 (December 22, 2024) (Preliminary Results).

² See Memorandum, “Decision Memorandum for the Final Results of the Administrative Review of the Countervailing Duty Order on Crystalline Silicon Photovoltaic Cells, Whether or Not Assembled into Modules, from the People's Republic of China; 2021,” dated concurrently with, and hereby adopted by, this notice (Issues and Decision Memorandum).

Scope of the Order

The products covered by the order are solar cells from China.³ For a full description of the scope of the Order, see the Issues and Decision Memorandum.

³ See Crystalline Silicon Photovoltaic Cells, Whether or Not Assembled into Modules, from the People's Republic of China: Countervailing Duty Order, 77 FR 73017 (December 7, 2012). On March 20, 2024, based on a changed circumstances review, Commerce amended the Order. See Crystalline Silicon Photovoltaic Cells, Whether or Not Assembled into Modules, from the People's Republic of China: Final Results of Changed Circumstances Reviews, and Revocation of the Antidumping and Countervailing Duty Orders, in Part, 89 FR 19809 (March 20, 2024) (Order).

Analysis of Comments Received

All issues raised in the parties' briefs are addressed in the Issues and Decision Memorandum. A list of the issues addressed is attached to this notice at Appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRN oticesListLayout.aspx.

Changes Since the Preliminary Results

Based on comments received from interested parties and record information, we made certain changes from the Preliminary Results regarding the calculations of Chint Solar (Zhejiang) Co., Ltd. (Chint Solar) and High Hope Zhongtian Corporation's (High Hope Zhongtian) program rates. These changes are explained in the Issues and Decision Memorandum.

Methodology

Commerce conducted this administrative review in accordance with section 751(a)(1)(A) of the Tariff Act of 1930, as amended (the Act). For each subsidy program found countervailable, Commerce finds that there is a subsidy, i.e., a government-provided financial contribution that gives rise to a benefit to the recipient, and that the subsidy is specific.⁴ For a description of the methodology underlying all of Commerce's conclusions, including any determination that relied upon the use of adverse facts available pursuant to section 776(a) and (b) of the Act, see the Issues and Decision Memorandum.

⁴ See sections 771(5)(B) and (D) of the Act regarding financial contribution; section 771(5)(E) of the Act regarding benefit; and section 771(5A) of the Act regarding specificity.

Companies Not Selected for Individual Review

The Act and Commerce's regulations do not directly address the establishment of a rate to be applied to companies not selected for individual examination when Commerce limits its examination in an administrative review pursuant to section 777A(e)(2) of the Act. Generally, Commerce looks to section 705(c)(5) of the Act, which provides instructions for determining the all-others rate in an investigation, for guidance when calculating the rate for companies that were not selected for individual examination in an administrative review. Section 777A(e)(2) of the Act provides that “the individual countervailable subsidy rates determined under subparagraph (A) shall be used to determine the all-others rate under section 705(c)(5) {of the Act}.” Under section 705(c)(5)(A) of the Act, the all-others rate is normally “an amount equal to the weighted average of the countervailable subsidy rates established for exporters and producers individually investigated, excluding any zero or de minimis countervailable subsidy rates, and any rates determined entirely {on the basis of facts available}.”

For these final results, we calculated above de minimis rates for Chint Solar and High Hope. Therefore, for the remaining companies under review, we calculated the rate for the non-examined companies using a weighted average of the individual subsidy rates calculated for the two mandatory respondents, which is 9.07 percent ad valorem.⁵ See Appendix II for a complete list of these companies.

⁵ See Memorandum, “Calculation of the Non-Selected Rate for the Final Results: 2021,” dated concurrently and hereby adopted by this notice.

Final Results of Review

In accordance with 19 CFR 351.221(b)(5), we determine that, for the period January 1, 2021, through December 31, 2021, the following net countervailable subsidy rates exist:

Producer/exporter | Subsidy rate (percent ad valorem)
Chint Solar (Zhejiang) Co., Ltd.⁶ | 29.55
High Hope Zhongtian Corporation ⁷ | 3.27
Non-Selected Companies Under Review ⁸ | 9.07

Disclosure

⁶ This rate applies to Chint Solar (Zhejiang) Co., Ltd. and its cross-owned companies: Chint New Energy Technology Co., Ltd.; Haining Chint Solar Energy Technology Co., Ltd.; Chint New Energy Technology (Yancheng) Co., Ltd.; Chint Solar (Yancheng) Co., Ltd.; Jiuquan Chint New Energy Technology Co., Ltd.; Chint Group Co., Ltd.; Zhejiang Chint Electrics Co., Ltd.; Zhejiang Chint New Energy Development Co., Ltd.; Chint Solar (Jiuquan) Co., Ltd.; and Chint Solar (Shanghai) Co., Ltd.

⁷ This rate applies to High Hope Zhongtian Corporation and its cross-owned companies: Jiangsu Highhope International Group Corporation and Jiangsu Suhui Asset Management Co., Ltd.

⁸ See Appendix II of this notice for a list of all companies that remain under review but were not selected for individual examination and to which Commerce has assigned the non-examined company rate.

Commerce intends to disclose the calculations and analysis performed for these final results of review within five days of the date of publication of this notice in the Federal Register, in accordance with 19 CFR 351.224(b).

Assessment Rates

Pursuant to sections 751(a)(1) and (a)(2)(C) of the Act and 19 CFR 351.212(b), Commerce shall determine, and CBP shall assess, countervailing duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(1) and (a)(2)(C) of the Act, Commerce also intends to instruct CBP to collect cash deposits of estimated countervailing duties in the amounts shown for the companies listed above on shipments of subject merchandise entered, or withdrawn from warehouse, for consumption on or after the date of publication of the final results of this administrative review. For all non-reviewed firms, we will instruct CBP to continue to collect cash deposits of estimated countervailing duties at the all-others rate or the most recent company-specific rate applicable to the company, as appropriate. These cash deposit requirements, effective upon publication of these final results, shall remain in effect until further notice.

Administrative Protective Order

This notice also serves as a final reminder to parties subject to the administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing the final results and publishing this notice in accordance with sections 751(a)(1) and 777(i)(1) of the Act, and 19 CFR 351.221(b)(5).

Dated: June 12, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Rate for Non-Selected Companies Under Review

V. Use of Facts Available and Application of Adverse Inferences

VI. Changes Since the Preliminary Results

VII. Subsidies Valuation Information

VIII. Analysis of Programs

IX. Discussion of the Issues

Comment 1: Whether Commerce Should Apply Adverse Facts Available to the Export Buyers Credit Program

Comment 2: Whether Commerce Should Change the Ocean Freight Benchmark

Comment 3: Whether Commerce Should Revise its Benefit Calculation for the Preferential Policy Lending Program

Comment 4: Whether the Tax Exemptions Under the Article 26(2) of the Enterprise Income Tax Law Program is Countervailable

Comment 5: Whether Commerce Should Revise the Benchmark for Electricity for Less than Adequate Remuneration (LTAR)

Comment 6: Whether Commerce Should Change the Inland Freight Values Used for the Benefit Calculation of the Provision of Solar Glass, Aluminum Extrusions, and Silicon Wafers for LTAR Programs

Comment 7: Whether Chint Electrics Was Uncreditworthy in Certain Years

Comment 8: Whether Commerce Should Revise Chint Solar's Sales Denominators

Comment 9: Whether Commerce Should Revise its Attribution Calculation for Anhui Uzon

Comment 10: Whether Commerce Made Errors in Chint Solar's Preliminary Calculation

X. Recommendation

Appendix II

Non-Examined Companies Under Review

1. Anji Dasol Solar Energy Science & Technology Co., Ltd.

2. Baoding Jiasheng Photovoltaic Technology Co. Ltd.

3. BYD (Shangluo) Industrial Co., Ltd.; BYD H.K. CO., Ltd.; Shanghai BYD Co., Ltd.

4. Chint Solar (Hong Kong) Company Limited.

5. Baotou JA Solar Technology Co., Ltd.; Beijing JA Solar PV Technology Co., Ltd.; Beijing Jinfeng Investment Co., Ltd.; Donghai JA Solar Technology Co., Ltd.; Donghai JingAo Solar Energy Science and Technology Co., Ltd.; Hebei Jingle Optoelectronic Technology Co., Ltd.; Hebei Jinglong New Materials Technology Group Co., Ltd.; Hebei Jinglong Sun Equipment Co. Ltd.; Hebei Ningjin Songgong Semiconductor Co., Ltd.; Hebei Ningtong Electronic Materials Co., Ltd.; Hebei Ningtong Electronic Materials Co., Ltd.; Hebei Yujing Electronic Science and Technology Co., Ltd.; Hefei JA Solar Technology Co., Ltd.; JA (Hefei) Renewable Energy Co., Ltd; JA PV Technology Co., Ltd.; JA Solar (Xingtai) Co., Ltd.; JA Solar Investment China Co., Ltd; JA Solar Technology Co., Ltd.; JA Solar Technology Yangzhou Co., Ltd.; Jing Hai Yang Semiconductor Material (Donghai) Co., Ltd.; JingAo Solar Co., Ltd.; Jinglong Industry and Commerce Group Co., Ltd.; Jinglong Technology Holdings Co., Ltd.; Jingwei Electronic Materials Co., Ltd.; Ningjin County Jing Tai Fu Technology Co., Ltd.; Ningjin County Jingyuan New Energy Investment Co., Ltd.; Ningjin Guiguang Electronics Investment Co., Ltd.; Ningjin Jinglong PV Industry Investment Co., Ltd.; Ningjin Jingxing Electronic Material Co., Ltd.; Ningjin Longxin Investment Co., Ltd.; Ningjin Saimei Ganglong Electronic Materials Co., Ltd.; Ningjin Songgong Electronic Materials Co., Ltd.; Shanghai JA Solar Technology Co., Ltd.; Solar Silicon Peak Electronic Science and Technology Co., Ltd.; Solar Silicon Valley Electronic Science and Technology Co., Ltd.; Taicang Juren PV Material Co., Ltd.; Xingtai Jinglong Electronic Material Co., Ltd.; Xingtai Jinglong New Energy Co., Ltd.; Xingtai Jinglong PV Materials Co., Ltd.

6. Jinko Solar Co., Ltd.; Jinko Solar Import and Export Co., Ltd.; Jiangxi Jinko Photovoltaic Materials Co., Ltd.; Jinko Solar Technology (Haining) Co., Ltd.; JinkoSolar (Chuzhou) Co., Ltd.; JinkoSolar (Shangrao) Co., Ltd.; JinkoSolar (Sichuan) Co., Ltd.; JinkoSolar (Yiwu) Co., Ltd.; Ruixu Industrial Co., Ltd.; Xinjiang Jinko Solar Co., Ltd.; Yuhuan Jinko Solar Co., Ltd.; Zhejiang Jinko Solar Co., Ltd.; Jinko Solar (Shanghai) Management Co., Ltd.

7. LONGi Solar Technology Co., Ltd.

8. Shanghai Nimble Co., Ltd.

9. Shenzhen Sungold Solar Co., Ltd.

10. Toenergy Technology Hangzhou Co., Ltd.

11. Trina Solar Science & Technology (Thailand) Ltd.; Changzhou Trina PV Ribbon Materials Co., Ltd.; Changzhou Trina Solar Energy Co., Ltd. (a.k.a. Trina Solar Co., Ltd.); Changzhou Trina Solar Yabang Energy Co., Ltd.; Hubei Trina Solar Energy Co., Ltd.; Trina Solar (Changzhou) Science and Technology Co., Ltd.; Trina Solar Co., Ltd.; Turpan Trina Solar Energy Co., Ltd.; Yancheng Trina Solar Energy Technology Co., Ltd.

12. Wuxi Suntech Power Co., Ltd.

13. Yancheng Trina Solar Energy Technology Co., Ltd.

14. Yingli Energy (China) Co., Ltd.

[FR Doc. 2024-13377 Filed 6-17-24; 8:45 am]

BILLING CODE 3510-DS-P